DEPARTMENT OF THE INTERIOR

Bureau of Land Management

[LLCA 942000 L57000000 BX0000]

Filing of Plats of Survey: California

AGENCY: Bureau of Land Management, Interior.

ACTION: Notice.

SUMMARY: The plats of survey of lands described below are scheduled to be officially filed in the Bureau of Land Management California State Office, Sacramento, California, on the next business day following the plat acceptance date.

ADDRESSES: A copy of the plats may be obtained from the Land Office at the California State Office, Bureau of Land Management, 2800 Cottage Way, Sacramento, California 95825, upon required payment.

FOR FURTHER INFORMATION CONTACT: Chief, Branch of Geographic Services, Bureau of Land Management, California State Office, 2800 Cottage Way, Room W-1623, Sacramento, California 95825, (916) 978-4310.

SUPPLEMENTARY INFORMATION: These surveys were executed to meet the administrative needs of various Federal agencies. A person or party who wishes to protest against a survey must file a notice that they wish to protest (at the above address) with the California State Director, Bureau of Land Management, Sacramento, California. The lands surveyed are:

Mount Diablo Meridian, California

T. 25 N., R. 9 W., Dependent Resurvey and Subdivision, accepted December 16, 2010.

San Bernardino Meridian, California

T. 6 S., R. 22 E., Dependent Resurvey, Metes-and-Bounds Survey, Independent Resurvey and Subdivision of Section 18, accepted October 19, 2010.

T. 2 S., R. 23 E., Dependent Resurvey, accepted December 6, 2010.

T. 5 S., R. 23 E., Dependent Resurvey, accepted December 6, 2010.

T. 3-4 S., R. 23 E., Dependent Resurvey, accepted December 14, 2010.

Authority: 43 U.S.C., Chapter 3. Dated: January 6, 2011.

Lance J. Bishop,
Chief Cadastral Surveyor, California.

[FR Doc. 2011-1740 Filed 1-26-11; 8:45 am]

BILLING CODE 4310-40-P